DEPARTMENT OF STATE

[Public Notice: 11565]

Determination Under Section 7014(b) of the Department of State, Foreign Operations, and Related Programs Appropriations Act, 2020

SUMMARY: Pursuant to the authority vested in me by section 7014(b) of the Department of State, Foreign Operations, and Related Programs Appropriations Act, 2020 (FY 2020 SFOAA), and Department of State Delegation of Authority 513, I hereby determine that a significant change in circumstances makes it unlikely that the following funds specifically designated for particular programs or activities by the FY 2020 SFOAA or any other Act can be obligated during the original periods of availability of such funds: $126,926,815 in the Economic Support Fund (ESF) account; $5,000,000 in the Global Health Programs (GHP)—USAID account; $14,000,000 in the International Narcotics Control and Law Enforcement (INCLE) account; and $18,000,000 in the Nonproliferation, Anti-terrorism, Demining, and Related Programs (NADR) account. This determination shall be published in the Federal Register and, along with the accompanying Memorandum of Justification, shall be transmitted to Congress.

Dated: September 30, 2021.
Brian McKeon,
Deputy Secretary of State for Management and Resources, Department of State.

[FR Doc. 2021-22775 Filed 10-19-21; 8:45 am]

BILLING CODE 4710-10-P